DEPARTMENT OF TRANSPORTATION

Federal Aviation Administration

14 CFR Part 39

[Docket No. 2002-CE-58-AD]

RIN 2120-AA64

Airworthiness Directives; Univair Aircraft Corporation Models Alon A-2 and A2-A; ERCO 415-C, 415-CD, 415-D, 415-E, and 415-G; Forney F-1 and F-1A; and Mooney M10 Airplanes

AGENCY: Federal Aviation Administration, DOT.

ACTION: Notice of proposed rulemaking (NPRM).

SUMMARY: This document proposes to supersede Airworthiness Directive (AD) 94-18-04 R1, which currently applies to all Univair Aircraft Corporation (Univair) Models Alon A-2 and A2-A; ERCO 415-C, 415-CD, 415-D, 415-E, and 415-G; Forney F-1 and F-1A; and Mooney M10 airplanes. AD 94-18-04 R1 requires installing inspection openings in the outer wing panels, inspecting (one-time) the wing outer panel structural components for corrosion, and repairing any corroded wing outer panel structural component. Several reports of corrosion in the outer wing panels of the affected airplanes prompted that AD. Additional reports of corrosion on airplanes in compliance with AD 94-18-04 R1 have caused the Federal Aviation Administration (FAA) to propose repetitive inspections. This proposed AD would make the inspection required in AD 94-18-04 R1 repetitive. The actions specified by this proposed AD are intended to prevent wing damage caused by a corroded wing outer panel structural component, which, if not detected and corrected, could progress to the point of structural failure.

DATES: The FAA must receive any comments on this proposed rule on or before July 28, 2003.

ADDRESSES: Submit comments to FAA, Central Region, Office of the Regional Counsel, Attention: Rules Docket No. 2002-CE-58-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-58-AD” in the subject line. If you send comments electronically as attached electronic files, the files must be formatted in Microsoft Word 97 for Windows or ASCII text.

You may get service information that applies to this proposed AD from Univair Aircraft Corporation, 2500 Himalaya Road, Aurora, Colorado 80011, telephone: (303) 375-8882; facsimile: (303) 375-8888. You may also view this information at the Rules Docket at the address above.

FOR FURTHER INFORMATION CONTACT: Roger Caldwell, Aerospace Engineer, FAA, Denver Aircraft Certification Office, 26805 East 68th Avenue, Room 214, Denver, Colorado 80249-6361; telephone: (303) 342-1086; facsimile: (303) 342-1088.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-58-AD.” We will date stamp and mail the postcard back to you.

Discussion

Has FAA Taken Any Action to This Point?

Maintenance inspection procedures did not allow for thorough inspection of the wing structure on Univair Models Alon A-2 and A2-A; ERCO 415-C, 415-CD, 415-D, 415-E, and 415-G; Forney F-1 and F-1A; and Mooney M10 airplanes. This caused us to issue AD 94-18-04, Amendment 39-9017 (59 FR 43727, August 25, 1994) to require installing inspection openings in the outer wing panels, inspecting (one-time) the wing outer panel structure for corrosion, and repairing any corrosion found.

After AD 94-18-04 was issued, Univair revised Service Bulletin No. 29 to the Revision B level. Univair Service Bulletin No. 29, Revision B, dated January 2, 1995, changed the dimension of one of the openings to position it symmetrically between two ribs; and clarified the dimensioning system utilized in placement of the inspection openings. Univair SB No. 29, Revision B, also presented further discussion of the service difficulties encountered on the referenced subject and clarified the intent of the preliminary inspection procedure that may be accomplished prior to the installation of the inspection openings.

This caused us to issue AD 94-18-04 R1, Amendment 39-9173 (60 FR 62321, March 14, 1995).

What Has Happened Since AD 94-18-04 R1 To Initiate This Proposed Action?

The FAA has received additional reports of corrosion damage in the wing outer panel structural components continuing to go undetected. Univair has revised Service Bulletin No. 29 to the Revision C level, dated July 8, 1999. This revision changes the one-time inspection of the wing outer panel structural components for corrosion to a repetitive inspection.

The FAA's Determination and an Explanation of the Provisions of This Proposed AD

What Has FAA Decided?

After examining the circumstances and reviewing all available information related to the incidents described above, we have determined that:

—The unsafe condition referenced in this document exists or could develop on other Univair Models Alon A-2 and A2-A; ERCO 415-C, 415-CD, 415-D, 415-E, and 415-G; Forney F-1 and F-1A, and Mooney M10 airplanes of the same type design;

—The inspection specified in the previously-referenced service information and AD 94-18-04 R1 should be made repetitive on the affected airplanes; and

—AD action should be taken in order to correct this unsafe condition.

What Would This Proposed AD Require?

This proposed AD would supersede AD 94-18-04 R1 with a new AD that would retain the actions required in AD 94-18-04 R1 and make the one-time inspection of the wing outer panel structural components for corrosion a repetitive inspection.

How Does the Revision to 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Would This Proposed AD Impact?

We estimate that this proposed AD affects 2,600 airplanes in the U.S. registry.

What Would Be the Cost Impact of This Proposed AD on Owners/Operators of the Affected Airplanes?

We estimate the following costs to accomplish this proposed installation of the inspection openings:

Labor cost | Parts cost | Total cost per airplane
6 workhours × $60 per hour = $360 | $67 | $427

We estimate the following costs to accomplish the proposed inspection:

Labor cost | Parts cost | Total cost per airplane | Total cost on U.S. operators
2 workhours × $60 per hour = $120 | Not applicable | $120 | $120 × 2,600 = $312,000

The FAA has no method of determining the number of repetitive inspections each owner/operator would incur over the life of each of the affected airplanes so the cost impact is based on the initial inspection.

The FAA has no method of determining the number of repairs or replacements each owner/operator would incur over the life of each of the affected airplanes based on the results of the proposed inspections. We have no way of determining the number of airplanes that may need such repair. The extent of damage may vary on each airplane.

Compliance Time of This Proposed AD

What Would Be the Compliance Time of This Proposed AD?

The compliance time of this proposed AD is “within the next 12 calendar months after the effective date of this AD.”

Why Is the Proposed Compliance Time Presented in Calendar Time Instead of Hours Time-in-Service (TIS)?

The unsafe condition specified by this proposed AD is caused by corrosion. Corrosion can occur regardless of whether the airplane is in operation or is in storage. Therefore, to assure that the unsafe condition specified in this proposed AD does not go undetected for a long period of time, the compliance is presented in calendar time instead of hours TIS.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 94-18-04 R1, Amendment 39-9173 (60 FR 62321, March 14, 1995), and by adding a new AD to read as follows:

Univair Aircraft Corporation: Docket No. 2002-CE-58-AD; Supersedes AD 94-18-04 R1, Amendment 39-9173.

(a) What airplanes are affected by this AD? This AD affects the following airplane models and serial numbers that are certificated in any category:

Models | Serial No.
Alon A-2 and A2-A | All.
ERCO 415-C, 415-CD, 415-D, 415-E, and 415-G | All.
Forney F-1 and F-1A | All.
Mooney M10 | All.

(b) Who must comply with this AD? Anyone who wishes to operate any of the airplanes identified in paragraph (a) of this AD must comply with this AD.

(c) What problem does this AD address? The actions specified by this AD are intended to prevent wing damage caused by a corroded wing outer panel structural component, which, if not detected and corrected, could progress to the point of structural failure.

(d) What actions must I accomplish to address this problem? To address this problem, you must accomplish the following:

Actions | Compliance | Procedures
(1) Install inspection openings in the outer wing panels and inspect the wing outer panel internal structural components for corrosion and unrepaired corrosion damage | Within the next 12 calendar months after March 24, 1995 (the effective date of AD 94-18-04 R1), unless already accomplished | In accordance with Univair Service Bulletin No. 29, Revision B, dated January 2, 1995, or Univair Service Bulletin No. 29, Revision C, dated July 8, 1999, and Advisory Circular 43-4A, Corrosion Control for Aircraft.
(2) If corrosion or corrosion damage is found during the inspection required in paragraph (d)(1) of this AD, repair or replace components of the wing outer panel structure | Repair or replace prior to further flight after the inspection required in paragraph (d)(1) of this AD | In accordance with Univair Aircraft Corporation Service Bulletin No. 29, Revision B, dated January 2, 1995, or Univair Service Bulletin No. 29, Revision C, dated July 8, 1999, the applicable maintenance manual, and Advisory Circular 43-4A, Corrosion Control for Aircraft.
(3) Repetitively inspect the wing outer panel internal structural components for corrosion and unrepaired corrosion damage | Initially inspect within the next 6 calendar months after the effective date of this AD unless the wing outer panel internal structure had been inspected for corrosion within the previous 6 calendar months immediately prior to the effective date of this AD. Repetitively inspect thereafter at intervals not to exceed 12 months after the last inspection | In accordance with Univair Aircraft Corporation Service Bulletin No. 29, Revision C, dated July 8, 1999, and Advisory Circular 43-4A, Corrosion Control for Aircraft.
(4) At any time corrosion or corrosion damage is found, repair or replace components of the wing outer panel structure | Repair or replace prior to further flight after the inspection in which the corrosion or corrosion damage is found. Continue with the repetitive inspection requirements of this AD | In accordance with Univair Aircraft Corporation Service Bulletin No. 29, Revision B, dated January 2, 1995, or Univair Service Bulletin No. 29, Revision C, dated July 8, 1999, and Advisory Circular 43-4A, Corrosion Control for Aircraft.

Note 1: The compliance times specified in Univair Aircraft Corporation Service Bulletin No. 29, Revision B, dated January 2, 1995, or Univair Service Bulletin No. 29, Revision C, dated July 8, 1999, are different from those required by this AD. The compliance times in this AD take precedence over those in the service bulletin.

(e) Can I comply with this AD in any other way?

(1) To use an alternative method of compliance or adjust the compliance time, follow the procedures in 14 CFR 39.13. Send these requests to the Manager, Denver Aircraft Certification Office (ACO). For information on any already approved alternative methods of compliance, contact Roger Caldwell, Aerospace Engineer, FAA, Denver Aircraft Certification Office, 26805 East 68th Avenue, Room 214, Denver, Colorado 80249-6361; telephone: (303) 342-1086; facsimile: (303) 342-1088.

(2) Alternative methods of compliance approved for the inspection required in AD 94-18-04 R1, which is superseded by this AD, are approved as alternative methods of compliance with this AD.

(f) How do I get copies of the documents referenced in this AD? You may get copies of the documents referenced in this AD from Univair Aircraft Corporation, 2500 Himalaya Road, Aurora, Colorado 80011, telephone: (303) 375-8882; facsimile: (303) 375-8888. You may view these documents at FAA, Central Region, Office of the Regional Counsel, 901 Locust, Room 506, Kansas City, Missouri 64106.

(g) Does this AD action affect any existing AD actions? This amendment supersedes AD 94-18-04 R1, Amendment 39-9173.

Issued in Kansas City, Missouri, on May 23, 2003.
Michael Gallagher,
Manager, Small Airplane Directorate, Aircraft Certification Service.

[FR Doc. 03-13511 Filed 5-29-03; 8:45 am]

BILLING CODE 4910-13-P